DEPARTMENT OF LABOR

Employment and Training Administration

[TA-W-58,875A]

Accenture, LLP; Atlanta, GA; Affirmative Determinations for Worker Adjustment Assistance and Alternative Trade Adjustment Assistance; Correction

This notice corrects the notice of certification of eligibility to apply for Alternative Trade Adjustment Assistance applicable to TA-W-58,875A, which was published in the Federal Register on May 17, 2006 (71 FR 28709-28711) in FR Document E6-7526.

This corrects the certification of eligibility for workers of TA-W-58,875A, to apply for Alternative Trade Adjustment Assistance and confirms eligibility to apply for Worker Adjustment Assistance as identified on page 28710 in the first column, the eighth TA-W-number listed.

The Department appropriately published in the Federal Register May 17, 2006, page 28711, under the notice of Negative Determinations for Alternative Trade Adjustment Assistance, the denial of eligibility applicable to workers of TA-W-58,875A. The notice appears on page 28711 in the second column, the fourth TA-W-number listed.

Signed in Washington, D.C., this 15th day of August 2006.
Erica R. Cantor,
Director, Division of Trade Adjustment Assistance.

[FR Doc. E6-14117 Filed 8-24-06; 8:45 am]

BILLING CODE 4510-30-P